DEPARTMENT OF LABOR

Employment and Training Administration

[TA-W-57,628]

Blackhawk Products Group, Hayesville, NC; Notice of Termination of Investigation

Pursuant to Section 221 of the Trade Act of 1974, as amended, an investigation was initiated On July 27, 2005 in response to a worker petition filed by a company official on behalf of workers at BlackHawk Products Group, Hayesville, North Carolina.

The petitioner has requested that the petition be withdrawn. Consequently, the investigation has been terminated.

Signed at Washington, DC, this 24th day of August, 2005.
Linda G. Poole,
Certifying Officer, Division of Trade Adjustment Assistance.

[FR Doc. E5-5291 Filed 9-27-05; 8:45 am]

BILLING CODE 4510-30-P